OFFICE OF THE UNITED STATES TRADE REPRESENTATIVE

[Docket No. USTR-2017-0021]

Meeting on Implementation of the United States-Singapore Free Trade Agreement Environment Chapter

AGENCY: Office of the United States Trade Representative.

ACTION: Request for comments and meeting notice.

SUMMARY: The United States and Singapore intend to hold a meeting on implementation of Chapter 18 (Environment) of the United States-Singapore Free Trade Agreement (FTA). The Office of the United States Trade Representative (USTR) requests written comments or suggestions concerning any relevant issues.

DATES: October 2, 2017 at midnight EST: Deadline for submission of written comments. October 4, 2017 at 5:00 p.m.: The United States and Singapore will hold a public session for the meeting on FTA Environment Chapter implementation at the Envision Hub, Level 23 of the Environment Building located at 40 Scotts Road, Singapore 228231.

ADDRESSES: You should submit written comments through the Federal eRulemaking Portal: http://www.regulations.gov. Follow the instructions for submitting comments in section III below. For alternatives to on-line submissions, please contact Emily Dougherty at Emily_I_Dougherty@ustr.eop.gov or (202) 395-6336 before transmitting a comment and in advance of the relevant deadline.

FOR FURTHER INFORMATION CONTACT: Emily Dougherty, Office of Environment and Natural Resources, at Emily_I_Dougherty@ustr.eop.gov or (202) 395-6336. You can find information about the United States-Singapore FTA at https://ustr.gov/trade-agreements/free-trade-agreements/singapore-fta.

SUPPLEMENTARY INFORMATION:

I. Background

The United States-Singapore FTA entered into force on January 1, 2004. On October 4, 2017, the United States and Singapore will hold a public session for the meeting on FTA Environment Chapter implementation in Singapore. The purpose of the meeting is to review implementation of Chapter 18 (Environment).

USTR invites interested organizations and members of the public to attend the public session, and to submit in advance written comments or suggestions regarding implementation of Chapter 18 and any issues that should be discussed at the meetings. If you would like to attend the public session, please notify Emily Dougherty at the email address listed below under the heading “ADDRESSES.” Please include your full name and any organization or group you represent.

II. Public Comments

USTR invites written comments or suggestions regarding implementation of Chapter 18 and any issues that should be discussed at the meetings. USTR also invites interested organizations and members of the public to attend the public session.

In preparing comments, we encourage you to refer to Chapter 18 of the FTA (https://ustr.gov/trade-agreements/free-trade-agreements/singapore-fta/final-text), and the Final Environmental Review of the FTA (https://ustr.gov/sites/default/files/Singapore%20final%20review.pdf). You can find additional information about the FTA on the USTR Web site at https://ustr.gov/trade-agreements/free-trade-agreements/singapore-fta.

III. Submission Instructions

If you would like to attend the public session, you must contact Emily Dougherty at Emily_I_Dougherty@ustr.eop.gov or (202) 395-6336 with your full name and any organization or group you represent.

All comments and suggestions must be submitted in English and sent electronically via www.regulations.gov. To submit comments, locate the docket (folder) by entering the docket number USTR-2017-0021 in the “Enter Keyword or IP” window at the regulations.gov homepage and click “Search.” The site will provide a search-results page listing all documents associated with this docket. Locate the reference to this notice by selecting “Notice” under “Document Type” on the left side of the search-results page, and click on the link entitled “Comment Now!” You should provide comments in an attached document, and name the file according to the following protocol, as appropriate: Commenter Name, or Organization, US-Singapore FTA Environment Chapter. Please include the following information in the “Type Comment” field: “US-Singapore FTA Environment Chapter.” USTR prefers submissions in Microsoft Word (.doc) or Adobe Acrobat (.pdf) format. If the submission is in another file format, please indicate the name of the software application in the “Type Comment” field. For further information on using the www.regulations.gov Web site, please select “How to Use Regulations.gov” on the bottom of any page.

Please do not attach separate cover letters to electronic submissions; rather, include any information that might appear in a cover letter in the comments themselves. Similarly, to the extent possible, please include any exhibits, annexes, or other attachments in the same file as the comment itself, rather than submitting them as separate files.

For any comment submitted electronically that contains business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter. Additionally, the submitter should type “Business Confidential US-Singapore FTA Environment Chapter” in the “Comment” field.

Filers of comments containing business confidential information also must submit a public version of their comments. The file name of the public version should begin with the character “P”. The non-business confidential version will be placed in the docket at www.regulations.gov and be available for public inspection.

As noted, USTR strongly urges submitters to file comments through www.regulations.gov. You must make any alternative arrangements in advance of the relevant deadline and before transmitting a comment by contacting Emily Dougherty at Emily_I_Dougherty@ustr.eop.gov or (202) 395-6336.

We will post comments in the docket for public inspection, except business confidential information. You can view comments on the https://www.regulations.gov Web site by entering docket number USTR-2017-0021 in the search field on the home page.

Jennifer Prescott,
Assistant U.S. Trade Representative for Environment and Natural Resources, Office of the United States Trade Representative.

[FR Doc. 2017-20866 Filed 9-28-17; 8:45 am]

BILLING CODE 3290-F7-P